Title 3—

The President

Proclamation 9301 of July 21, 2015

Honoring the Victims of the Tragedy in Chattanooga, Tennessee

By the President of the United States of America

A Proclamation

Our thoughts and prayers as a Nation are with the service members killed last week in Chattanooga. We honor their service. We offer our gratitude to the police officers and first responders who stopped the rampage and saved lives. We draw strength from yet another American community that has come together with an unmistakable message to those who would try and do us harm: We do not give in to fear. You cannot divide us. And you will not change our way of life.

We ask God to watch over the fallen, the families, and their communities. As a mark of respect for the victims of the senseless acts of violence perpetrated on July 16, 2015, in Chattanooga, Tennessee, by the authority vested in me as President of the United States by the Constitution and the laws of the United States of America, I hereby order that the flag of the United States shall be flown at half-staff at the White House and upon all public buildings and grounds, at all military posts and naval stations, and on all naval vessels of the Federal Government in the District of Columbia and throughout the United States and its Territories and possessions until sunset, July 25, 2015. I also direct that the flag shall be flown at half-staff for the same length of time at all United States embassies, legations, consular offices, and other facilities abroad, including all military facilities and naval vessels and stations.

IN WITNESS WHEREOF, I have hereunto set my hand this twenty-first day of July, in the year of our Lord two thousand fifteen, and of the Independence of the United States of America the two hundred and fortieth.

[FR Doc. 2015-18422

Filed 7-23-15; 11:15 am]

Billing code 3295-F5